DEPARTMENT OF TRANSPORTATION

Federal Aviation Administration

14 CFR Part 73

[Docket No. FAA-2014-0639; Airspace Docket No. 13-ASW-20]

RIN 2120-AA66

Modification of Restricted Areas R-3804A, R-3804B, and R-3804C; Fort Polk, LA

AGENCY: Federal Aviation Administration (FAA), DOT.

ACTION: Final rule.

SUMMARY: This action expands the lateral boundary of restricted area R-3804B, Fort Polk, LA, and raises the restricted area ceiling to, but not including 10,000 feet mean sea level (MSL). The expanded restricted area airspace will contain new live fire ranges to support mission requirements of the U.S. Army in order to fully exploit the capabilities of modern weapons systems and complex training scenarios that replicate conditions encountered during military deployments today. This action also amends time of designation for R-3804A and R-3804B to better reflect when the restricted areas are in use by the U.S. Army and when the airspace is available to nonparticipants. Lastly, this action makes administrative editorial corrections to the R-3804A, R-3804B, and R-3804C legal descriptions.

DATES: Effective date: 0901 UTC, October 15, 2015.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends the restricted area airspace at Fort Polk, LA, to enhance aviation safety and accommodate essential U.S. Army training requirements.

History

On September 25, 2014, the FAA published in the Federal Register a notice of proposed rulemaking (79 FR 57486) to expand the lateral boundary and raise the designated altitudes of restricted area R-3804B, amend the time of designation for R-3804A and R-3804B, and make using agency corrections to R-3804A, R-3804B, and R-3804C. The R-3804 restricted area complex amendments support the military training activities conducted at Fort Polk, LA.

Interested parties were invited to participate in this rulemaking effort by submitting written comments on the proposal. Fifteen comments were received with 14 of the commenters supporting the proposed action, and one commenter raising several concerns.

The commenter suggested the FAA offset a larger R-3804B by eliminating the R-3801A, R-3801B, and R-3801C restricted areas and/or the R-3803A and R-3803B restricted areas. The commenter offered that since the R-3801 complex and the Hackett and Jena Military Operations Areas (MOAs) all have the deactivated 917th Fighter Wing listed as the using agency, the FAA should consider them for deactivation. The R-3801 complex and associated MOAs mentioned by the commenter are used by U.S. Air Force B-52 aircraft operating from Barksdale Air Force Base (AFB), LA, for electronic combat training. The FAA has amended the legal descriptions of these Special Use Airspace (SUA) areas, effective April 30, 2015, to reflect the current using agency, the 307th Bomb Wing at Barksdale AFB, LA. The R-3803 complex noted by the commenter is used by U.S. Army units at Fort Polk for live fire training similar to that occurring in the R-3804 complex. The actual time the restricted area complexes are activated is roughly the same and consistent with the expected usage of the proposed R-3804B.

The commenter also stated that real-time deactivation of the restricted area complex during Notice to Airmen (NOTAM) periods of use is a disservice to civilian pilots who have flight planned to avoid the airspace. In the interest of maximizing navigable airspace availability to the flying public, the FAA considers real-time deactivation of SUA airspace, and making it available to non-participants, an efficient use of the National Airspace System. Under the FAA “joint use” concept, SUA is expected to be released to the controlling agency and become available for access by nonparticipating aircraft during periods when the airspace is not needed by the using agency for its designated purpose.

Lastly, the commenter questioned how much of the NOTAM activation period is actually going to be used by Fort Polk. The expected usage of R-3804B is approximately 2 weeks per month, continuously, during large unit training rotations. Modern weapons capabilities and tactics are optimized for around-the-clock employment, and training events to replicate combat scenarios can occur any time of the day or night. The R-3804 complex utilization reporting for 2013, the most recent year available, shows R-3804B to have been activated 5,412 hours out of a possible 8,760 hours. The FAA considers this utilization rate to be consistent with Fort Polk's planned use of the proposed R-3804B.

The amendments to R-3804A, R-3804B, and R-3804C are addressed below.

The Rule

This action amends Title 14, Code of Federal Regulations (14 CFR) part 73 by expanding the lateral and vertical dimensions of restricted area R-3804B, Fort Polk, LA; changing the times of designation for R-3804A and R-3804B; and updating the using agency information for R-3804A, R-3804B, and R-3804C, and removing unnecessary verbiage from the designated altitudes and times of designation information for R-3804C.

The R-3804B boundary is expanded northward to match the northern boundary of R-3804A, as described in the NPRM, and the designated altitudes are raised from 3,000 feet MSL to, but not including, 10,000 feet MSL. This lateral and vertical expansion of R-3804B ensures containment of the hazardous artillery and mortar fires planned by the U.S. Army.

Additionally, the time of designation for R-3804A and R-3804B are changed from “Continuous” to “By NOTAM.” This amendment ensures the restricted areas are available to the U.S. Army when needed, continuously approximately two weeks each month, and provides a better indication to nonparticipants when the restricted areas are active and when they are available for use by the public.

Lastly, this action makes editorial updates to the using agency name for R-3804A, R-3804B, and R-3804C to incorporate the military service component of the using agency in the using agency name, removes the word “up” contained in the designated altitudes for R-3804C, and removes the words “As published” contained in the time of designation for R-3804C. These are purely administrative changes that do not affect the scheduling, use, or activities conducted within the restricted areas.

Regulatory Notices and Analyses

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

Regarding expansion of the lateral boundary and raising the designated altitudes of restricted area R-3804B, in accordance with FAA Order 1050.1E, paragraphs 402 and 404d, the FAA has conducted an independent evaluation of the United States Army, Joint Readiness Training Center's Final Environmental Assessment for the Establishment of Additional Restricted Airspace Joint Readiness Training Center and Fort Polk, LA dated March 2013 (hereinafter “the FEA”). The FAA adopted the relevant portions of the FEA and prepared a Finding of No Significant Impact/Record of Decision dated August 11, 2015. The FAA has determined that no significant impacts would occur as a result of the Federal action and therefore that preparation of an Environmental Impact Statement is not warranted, and a Finding of No Significant Impact in accordance with 40 CFR part 1501.4(e) is appropriate.

Regarding amending the time of designation for R-3804A and R-3804B, the FAA has determined that this action qualifies for categorical exclusion under the National Environmental Policy Act in accordance with FAA Order 1050.1E, Environmental Impacts: Policies and Procedures, paragraph 311c. This action, by changing time of designation from “continuous” to “by NOTAM” serves to return all or part of special use airspace (SUA) to the National Airspace System (NAS). It is not expected to cause any potentially significant environmental impacts, and no extraordinary circumstances exists that warrant preparation of an environmental assessment.

Regarding making using agency corrections to R-3804A, R-3804B, and R-3804C, the FAA has determined that this action qualifies for categorical exclusion under the National Environmental Policy Act in accordance with FAA Order 1050.1E, Environmental Impacts: Policies and Procedures, paragraph 311d. This action is an administrative change to the titles in the descriptions of the affected restricted areas to reflect the correct locations. It does not alter the dimensions, altitudes, times of designation or actual physical locations of the airspace; therefore, it is not expected to cause any potentially significant environmental impacts, and no extraordinary circumstances exists that warrant preparation of an environmental assessment.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106 (f), 106(g), 40103, 40113, 40120; E.O. 10854, 24 FR 9565, 3 CFR, 1959-1963 Comp., p. 389.

§ 73.38 [Amended]

2. Section 73.38 is amended as follows:

* * * * *

R-3804A Fort Polk, LA (Amended)

Boundaries. Beginning at lat. 31°00′53″ N., long. 93°08′12″ W.; to lat. 31°00′53″ N., long. 92°56′53″ W.; to lat. 31°00′20″ N., long. 92°56′14″ W.; to lat. 31°00′20″ N., long. 92°54′23″ W.; to lat. 31°03′55″ N., long. 92°51′34″ W.; to lat. 31°09′35″ N., long. 92°58′25″ W.; to lat. 31°09′35″ N., long. 93°00′56″ W.; to lat. 31°08′43″ N., long. 93°01′55″ W.; to lat. 31°08′43″ N., long. 93°08′12″ W.; to the point of beginning.

Designated altitudes. Surface to FL 180.

Time of designation. By NOTAM.

Controlling agency. FAA, Houston ARTCC.

Using agency. U.S. Army, Commanding General, Fort Polk, LA.

R-3804B Fort Polk, LA (Amended)

Boundaries. Beginning at lat. 31°00′53″ N., long. 93°10′53″ W.; to lat. 31°00′53″ N., long. 93°08′12″ W.; to lat. 31°08′43″ N., long. 93°08′12″ W.; to lat. 31°08′43″ N., long. 93°11′00″ W.; to lat. 31°04′56″ N., long. 93°11′00″ W.; to lat. 31°04′15″ N., long. 93°12′31″ W.; to the point of beginning.

Designated altitudes. Surface to but not including 10,000 feet MSL.

Time of designation. By NOTAM.

Controlling agency. FAA, Houston ARTCC.

Using agency. U.S. Army, Commanding General, Fort Polk, LA.

R-3804C Fort Polk, LA (Amended)

Boundaries. Beginning at lat. 31°00′53″ N., long. 93°08′12″ W.; to lat. 31°00′53″ N., long. 92°56′53″ W.; to lat. 31°00′20″ N., long. 92°56′14″ W.; to lat. 31°00′20″ N., long. 92°54′23″ W.; to lat. 31°03′55″ N., long. 92°51′34″ W.; to lat. 31°09′35″ N., long. 92°58′25″ W.; to lat. 31°09′35″ N., long. 93°00′56″ W.; to lat. 31°08′43″ N., long. 93°01′55″ W.; to lat. 31°08′43″ N., long. 93°08′12″ W.; to the point of beginning.

Designated altitudes. FL 180 to but not including FL 350.

Time of designation. By NOTAM 24 hours in advance.

Controlling agency. FAA, Houston ARTCC.

Using agency. U.S. Army, Commanding General, Fort Polk, LA.

Issued in Washington, DC, on August 11, 2015.
M. Randy Willis,
Acting Manager, Airspace Policy and Regulations Group.

[FR Doc. 2015-20286 Filed 8-14-15; 8:45 am]

BILLING CODE 4910-13-P